DEPARTMENT OF THE INTERIOR

Bureau of Land Management

[OR-020-1020-PG; G 01-0126]

Southeast Oregon Resource Advisory Council Meeting

AGENCY: Bureau of Land Management (BLM), Burns District, Interior.

ACTION: Meeting Notice for the Southeast Oregon Resource Advisory Council.

SUMMARY: The Southeast Oregon Resource Advisory Council (SEORAC) will meet at the Holiday Inn, 1249 Tapadera Avenue, Ontario, Oregon 97914, from 8:00 a.m. to 5:00 p.m., Mountain Daylight Time (MDT), on Monday, April 23, 2001, and conduct a field tour on Wildfire Issues Associated with the Urban Interface, Tuesday, April 24, 2001. Contact the BLM office listed below for exact time as the tour date approaches.

The meeting topics to be discussed by the council will include the establishment of the Steens Mountain Advisory Council (SMAC), a report from the Lakeview Resource Management Plan (RMP) subcommittee and the Bully Creek Lndscape Area Management Plan (LAMP), a presentation on minerals in the southeast Oregon area, National and local wildland fire planning report, Federal officials' update, Secure Rural Schools and Community Self-determination Act of 2000 and establishment of the associated Resource Advisory Council, and such other matters as may reasonably come before the Council. The entire meeting is open to the public. Information to be distributed to the Council members is requested in written format 10 days prior to the start of the Council meeting. Public comment is scheduled for 11:15 a.m. to 11:45 a.m., MDT on April 23, 2001.

FOR FURTHER INFORMATION CONTACT: Additional information concerning the SEORAC may be obtained from Holly LaChapelle, Resource Assistant, Burns District Office, HC 74-12533 Hwy 20 West, Hines, Oregon 97738, (541) 573-4501, or Holly LaChapelle@or.blm.gov or from the following web site http://www.or.blm.gov/SEOR-RAC.

Dated: March 6, 2001.
Thomas H. Dyer,
District Manager.

[FR Doc. 01-7049 Filed 3-20-01; 8:45 am]

BILLING CODE 4310-33-M